SURFACE TRANSPORTATION BOARD

49 CFR Part 1249

[Docket No. EP 769]

URCS Data Reporting

AGENCY: Surface Transportation Board.

ACTION: Final rule.

SUMMARY: The Surface Transportation Board adopts a final rule to codify a longstanding voluntary practice whereby Class I carriers, through the Association of American Railroads (AAR), have annually reported tare weight and loss and damage data for use in the Board's Uniform Railroad Costing System (URCS). Under the final rule, Class I carriers may choose to provide tare weight and loss and damage data through AAR or to file the data with the Board individually.

DATES: This rule is effective on August 13, 2022.

FOR FURTHER INFORMATION CONTACT: Pedro Ramirez at (202) 245-0333. Assistance for the hearing impaired is available through the Federal Relay Service at (800) 877-8339.

SUPPLEMENTARY INFORMATION: The Board is authorized, under 49 U.S.C. 11161, to maintain cost accounting rules for rail carriers. In 1989, the Board's predecessor, the Interstate Commerce Commission, adopted URCS as its general purpose costing system. Adoption of the Unif. R.R. Costing Sys. as a Gen. Purpose Costing Sys. for All Regul. Costing Purposes, 5 I.C.C.2d 894 (1989). The Board uses URCS for a variety of regulatory functions. URCS is used in rate reasonableness proceedings as part of the initial market dominance determination, and at later stages is used in parts of the Board's determination as to whether the challenged rate is reasonable and, when warranted, the maximum rate prescription. URCS is also used, among other things, to develop variable costs for making cost determinations in abandonment proceedings, provide the railroad industry and shippers with a standardized costing model, cost the Board's Carload Waybill Sample to develop industry cost information, and provide interested parties with basic cost information regarding railroad industry operations.

As a longstanding practice, AAR has collected tare weight and loss and damage data for use in URCS from Class I carriers and voluntarily provided the data annually to the Board. While the Board appreciates AAR's longstanding voluntary practice, to ensure the continued availability of the data, which are essential components of URCS,¹ the Board will formalize the reporting requirement and require Class I carriers to provide tare weight and loss and damage data on an annual basis, as described below. The Board has the statutory authority to obtain data from carriers and associations under 49 U.S.C. 11144 and 11145.

¹ Tare weights are used in URCS to calculate gross ton-mile costs, while loss and damage data are used to calculate the total variable shipment costs of each rail movement. The Railroad Cost Program User Manual is available on the Board's website at www.stb.gov/reports-data/uniform-rail-costing-system/.

Background

1. Notice of Proposed Rulemaking

On April 29, 2022, the Board issued a notice of proposed rulemaking in this docket. URCS Data Reporting (NPRM), EP 769 (STB served Apr. 29, 2022). The proposed rule is consistent with Class I carriers' current and longstanding practice of providing summarized tare weight and loss and damage data to the Board through AAR. AAR's practice has been to provide the average tare weight by AAR car type code ² in tons and pounds, as well as the number of cars. Additionally, AAR has historically provided summarized annual loss and damage expenses ³ and the number of tons originated by commodity. Class I carriers are required to report, quarterly and annually, the number of tons originated on their rail lines by commodity through the freight commodity statistics (FCS) report. 49 CFR 1248.2. AAR's practice has been to provide the Board with its own version of the FCS report that aggregates data from the Class I carriers. AAR has also provided the loss and damage per ton, which is calculated by dividing loss and damage expenses by the number of tons originated by commodity. The Board proposed that Class I carriers may continue to provide tare weight and loss and damage data in this format.

² AAR car type codes include freight car types and intermodal equipment: A-Equipped box car, B-Unequipped box car. C-Covered hopper car, D-Locomotive, E-Equipped gondola, F-Flat car, G-Unequipped gondola, H-Unequipped hopper, J-Gondola car, K-Equipped hopper car, L-Special type car, M-Maintenance of way, scale, passenger, caboose, and end-of-train information systems, P-Conventional intermodal car, Q-Lighter weight, low-profile intermodal car, R-Refrigerator car, S-Stack car, T-Tank car, U-Container, V-Vehicular flat car, Z-Trailer.

³ Historically, AAR has not reported loss and damage expenses for Grand Trunk Corporation (including U.S. affiliates of Canadian National Railway Company) (CN) and Soo Line Corporation (including U.S. affiliates of Canadian Pacific Railway Company) (CP). The Board proposed to require reporting from all Class I carriers because the Board's collection of loss and damage expenses from CN and CP for inclusion in URCS would allow the Board to provide more accurate cost estimates.

The Board also proposed an alternative to allow Class I carriers to individually report tare weight and loss and damage data directly to the Board. Under this option, Class I carriers would provide the tare weight totals by AAR car type code in tons and pounds and the number of cars, and the Board would calculate the average tare weight. For loss and damage data, Class I carriers would provide their total annual loss and damage expenses, number of tons originated, and loss and damage per ton by commodity using the specific commodity groupings identified in the proposed Annual Report of Loss and Damage Data, see NPRM, EP 769, slip op. at 11-13, and the Board would consolidate the data to calculate the loss and damage per ton for all Class I carriers.

To ensure the timely availability of data for use in URCS, the Board proposed to require Class I carriers, either individually or through AAR, to file the annual tare weight and loss and damage data with the Board within 60 days after the end of each calendar year. Additionally, to facilitate the prompt receipt of 2021 data for use in URCS this year, the Board proposed to require Class I carriers, either individually or through AAR, to file tare weight and loss and damage data for the year 2021 within 30 days of the effective date of the final rule.

To provide additional guidance, the Board proposed sample forms, attached as Appendices B (for reporting through AAR) and C (for reporting individually) to the NPRM, that Class I carriers may use to file tare weight and loss and damage data. The Board explained that its Office of Economics (OE) would make technical changes to the format of these forms in the future as necessary.⁴

⁴ If any technical changes were made, OE would post the revised templates to the Board's website and so notify the Class I carriers.

The Board invited comments on the proposed rule. Comments were due by June 13, 2022; replies were due by June 28, 2022. The Board received comments from AAR and the Western Coal Traffic League (WCTL), and a reply from AAR.

2. Comments and Reply

AAR supports the Board's proposal to codify the voluntary practice and states that it “plans to continue . . . to submit the information on behalf of the Class I railroads.” (AAR Comments 1, 3.) AAR, however, proposes one modification to the submission deadline for loss and damage data because the Board's proposal to require submission of loss and damage data within 60 days of the end of the calendar year may not be feasible. (Id. at 1-2.) AAR explains that it uses four inputs to calculate loss and damage data,⁵ not all of which are available until March 31. (Id. at 2.) Accordingly, AAR proposes that the Board move the submission deadline to May 31 to allow AAR 60 days from the date at which AAR receives the last input to verify, aggregate, and calculate the data and prepare the report. (Id. at 2-3.)

⁵ AAR states that these inputs include the number of tons originated, the loss and damage payments and operating revenues, average tare weight of cars, and the number of cars by AAR car type. (AAR Comments 2.)

AAR also clarifies the parameters of the data it proposes to submit on behalf of CN and CP. (Id. at 3.) AAR explains that, in the past, CN and CP have provided AAR with loss and damage data on a consolidated basis for their operations. (Id.) However, under the Board's proposal, CN and CP would need to separate out loss and damage data for their U.S. operations. (Id. at 4.) To ensure that only U.S. data is provided, AAR explains that it would provide loss and damage data for those movements that originated in the U.S. (with destinations in the U.S. and Canada) and exclude those movements that originated in Canada. (Id.) AAR asserts that such practice is consistent with the Carmack Amendment and conforms to the proposed rule's focus on tons originated. (Id.)

WCTL generally supports the Board's proposal but requests that the Board require that the data be reported by the Class I carriers individually. (WCTL Comments 1.) WCTL argues that allowing AAR to submit data on behalf of the Class I carriers may undermine accuracy. For example, WCTL contends that if one carrier has lower tare weights for a particular car type, then “the use of aggregate data will suppress that carrier's efficiencies,” and, if one carrier experiences major loss and damage, the “use of aggregate data will cause those costs to be socialized.” (Id. at 2.)

In response to WCTL, AAR argues that the Board should continue to permit AAR to report the data in the aggregate. (AAR Reply 2.) AAR contends that its longstanding practice of providing aggregated data is more efficient for the Board since the individual reporting option would require the Board to collect, calculate, and aggregate the data. (Id.) Furthermore, AAR asserts that the aggregated data option is consistent with the purpose of URCS to generate system averages for the industry, rather than monitor the operating practices of individual railroads. (Id.)

Final Rule

The Board will adopt the regulations as proposed in the NPRM with one modification and one clarification proposed by AAR, which are both reasonable and unopposed. First, the Board will modify the submission deadline for loss and damage data, from 60 days after the end of the calendar year to no later than May 31 of each year, to allow AAR sufficient time to collect the inputs, and verify and calculate the data. The Board will likewise modify the deadline for submission of tare weight data, from 60 days after the end of the calendar year to no later than May 31 of each year, so that both data sets are due simultaneously. Second, the Board clarifies that AAR's proposed methodology to ensure that the loss and damage data provided for CN and CP comprise only their U.S. operations (by including movements that originate in the U.S. and excluding movements that originate in Canada) is reasonable. With each annual submission of loss and damage data, AAR (or CN and CP, if the data is submitted by the carriers) will be required to explain the methodology by which Canadian operations are excluded so that the Board will be aware of any changes in that methodology.⁶

⁶ If, in the future, a U.S. railroad's operations extend into Mexico, then the Board expects that AAR (or the individual carrier, if the data is submitted by the carriers) would exclude those Mexican operations in the same manner as the exclusion of CN and CP's Canadian operations.

The final rule will retain the option for AAR to report the data for the Class I carriers in the aggregate. WCTL has provided the Board with no basis to conclude that the manner of the submission of the data (aggregated or individualized) would affect the accuracy of the collection. Moreover, the purpose of URCS is to provide system-average costing information for each railroad. Accordingly, the Board would have to undertake the additional burden of aggregating the data if they were submitted individually for each carrier. As discussed above, AAR's longstanding practice of collecting tare weight and loss and damage data from Class I carriers and providing aggregated data to the Board has worked successfully for decades and reduced administrative burdens for the Board. WCTL has not presented a compelling reason to change the Board's proposal and longstanding practice.

In the NPRM, the Board proposed to require Class I carriers, either individually or through AAR, to file tare weight and loss and damage data for the year 2021 within 30 days of the effective date of the final rule. To ensure the timely availability of data for use in URCS this year, the Board finds good cause to waive the 30-day effective period for the final rule so that the final rule will be effective 15 days after issuance. See 5 U.S.C. 553(d) (stating that an agency may waive the 30-day effective period for a final rule “for good cause found and published with the rule”). AAR will have 45 days after issuance of the final rule to submit tare weight and loss and damage data to the Board for the year 2021. Since AAR has the inputs for the data collection by March 31 of each year, this deadline should not be burdensome.

The final rule, reflecting the modification to the proposed rule discussed above, is set forth below.

Regulatory Flexibility Act. The Regulatory Flexibility Act of 1980 (RFA), 5 U.S.C. 601-612, generally requires a description and analysis of new rules that would have a significant economic impact on a substantial number of small entities. In drafting a rule, an agency is required to (1) assess the effect that its regulation will have on small entities, (2) analyze effective alternatives that may minimize a regulation's impact, and (3) make the analysis available for public comment. Section 601-604. In its final rule, the agency must either include a final regulatory flexibility analysis, section 604(a), or certify that the proposed rule would not have a “significant impact on a substantial number of small entities,” section 605(b). Because the goal of the RFA is to reduce the cost to small entities of complying with federal regulations, the RFA requires an agency to perform a regulatory flexibility analysis of small entity impacts only when a rule directly regulates those entities. In other words, the impact must be a direct impact on small entities “whose conduct is circumscribed or mandated” by the proposed rule. White Eagle Coop. v. Conner, 553 F.3d 467, 480 (7th Cir. 2009).

The final rule will not have a significant impact on a substantial number of small entities within the meaning of the RFA ⁷ because it is limited to Class I carriers. Accordingly, the Board certifies under 5 U.S.C. 605(b) that this rule would not have a significant economic impact on a substantial number of small entities as defined by the RFA. A copy of this decision will be served upon the Chief Counsel for Advocacy, Office of Advocacy, U.S. Small Business Administration, Washington, DC 20416.

⁷ For purposes of the RFA analysis, the Board defines a small entity as only including those rail carriers classified as Class III carriers under 49 CFR 1201.1-1. See Small Entity Size Standards Under the Regul. Flexibility Act, EP 719 (STB served June 30, 2016) (with Board Member Begeman dissenting). Class III carriers have annual operating revenues of $40.4 million or less in 2019 dollars ($42,370,575 when adjusted for inflation using 2021 data). Class II carriers have annual operating revenues of less than $900 million in 2019 dollars ($943,898,958 when adjusted for inflation using 2021 data). The Board calculates the revenue deflator factor annually and publishes the railroad revenue thresholds on its website. 49 CFR 1201.1-1; Indexing the Ann. Operating Revenues of R.Rs., EP 748 (STB served June 29, 2022).

In the NPRM, footnote 5 on page 4 incorrectly indicated that the revenue thresholds for Class II and Class III carriers had been adjusted for inflation to the base year of 1991. On April 5, 2021, the Board issued a Final Rule in Montana Rail Link, Inc.—Petition for Rulemaking—Classification of Carriers, Docket No. EP 763, in which the revenue classification level for Class I railroads was raised from $250 million (1991 dollars) to $900 million (2019 dollars) effective for the reporting year beginning January 1, 2020. The Class II threshold was converted and rounded from $20 million (1991 dollars) to $40.4 million (2019 dollars). The corresponding footnote in this decision has been corrected to reflect the new base year of 2019.

Paperwork Reduction Act. In the NPRM, the Board sought comments pursuant to the Paperwork Reduction Act (PRA), 44 U.S.C. 3501-3521, Office of Management and Budget (OMB) regulations at 5 CFR 1320.8(d), and Appendix D, about the impact of the new collection for URCS Data Reporting (OMB Control No. 2140-XXXX), concerning (1) whether the proposed collection of information, as described in Appendix D of the NPRM, is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate.

The Board estimated in the NPRM that the proposed new requirements would include a total annual hourly burden of 28 hours and a one-time, start-up hourly burden of 63 hours. There were no proposed non-hourly burdens associated with this collection. No comments were received pertaining to the collection of this information under the PRA.

The new collection will be submitted to OMB for review as required under the PRA, 44 U.S.C. 3507(d), and 5 CFR 1320.11.

Congressional Review Act. Pursuant to the Congressional Review Act, 5 U.S.C. 801-808, the Office of Information and Regulatory Affairs has designated this rule as a non-major rule, as defined by 5 U.S.C. 804(2).

Because the data required by the final rule is necessary to timely process the Board's URCS calculations, the Board finds good cause to make this rule effective on less than the 30 days' notice required under 5 U.S.C. 553(d).

List of Subjects in 49 CFR Part 1249

Railroads, Reporting and recordkeeping requirements.

It is ordered:

1. The Board adopts the final rule as set forth in this decision and the Appendices.

2. Notice of the final rule will be published in the Federal Register.

3. The final rule is effective on August 13, 2022.

4. Class I carriers, either individually or through AAR, shall file tare weight and loss and damage data for the year 2021 by September 12, 2022.

5. A copy of this decision will be served upon the Chief Counsel for Advocacy, Office of Advocacy, U.S. Small Business Administration.

6. This decision is effective on its service date.

Decided: July 28, 2022.
By the Board, Board Members Fuchs, Hedlund, Oberman, Primus, and Schultz.
Aretha Laws-Byrum,
Clearance Clerk.

For the reasons set forth in the preamble, the Surface Transportation Board amends title 49, chapter X, subchapter C, of the Code of Federal Regulations by adding part 1249, consisting of §§ 1249.1 and 1249.2, to read as follows:

PART 1249—REPORTS OF TARE WEIGHT AND LOSS AND DAMAGE DATA

Authority: 49 U.S.C. 1321, 11144, 11145.

§ 1249.1 Annual Report of Tare Weight Data.

Class I carriers, either individually or through AAR, shall annually file tare weight data, as detailed in the Annual Report of Tare Weight Data, with the Surface Transportation Board's Office of Economics no later than May 31 of each year. Forms and instructions are available at www.stb.gov and may also be obtained by contacting the Office of Economics.

§ 1249.2 Annual Report of Loss and Damage Data.

Class I carriers, either individually or through AAR, shall annually file loss and damage data, as detailed in the Annual Report of Loss and Damage Data, with the Surface Transportation Board's Office of Economics no later than May 31 of each year. Forms and instructions are available at www.stb.gov and may also be obtained by contacting the Office of Economics.

Note: The following appendices will not appear in the Code of Federal Regulations.

Appendix A—Sample Forms for AAR Reporting

Annual Report of Loss and Damage Data Instructions

This report is applicable to all Class I railroads.

1. Update current reporting year.

2. For each standard transportation commodity code (STCC) identified, report total annual loss and damage expenses, the number of tons originated, and the loss and damage per ton.

3. Report the number of tons originated for each commodity for all railroads.

4. The loss and damage per ton is calculated by dividing loss and damage expenses by the number of tons originated by commodity. Round to the thousandths place.

5. For Commodity 49 Hazmat, only report data in the loss and damage column.

6. Explain the methodology by which non-U.S. operations, if any, are excluded.

BILLING CODE 4915-01-P

Annual Report of Tare Weight Data Instructions

1. For each four-digit AAR Car Type Code, report the average tare weight for all Class I railroads by tons and pounds, and the number of cars.

2. Report detailed data for freight car types and intermodal equipment codes: A, B, C, D, E, F, G, H, J, K, L, M, P, Q, R, S, T, U, V, and Z.

Appendix B—Sample Forms for Individual Reporting

Annual Report of Loss and Damage Data Instructions

This report is applicable to all Class I railroads.

1. Update current reporting year.

2. For each standard transportation commodity code (STCC) identified, report total annual loss and damage expenses, the number of tons originated, and the loss and damage per ton.

3. Report the number of tons originated for each commodity for all railroads.

4. The loss and damage per ton is calculated by dividing loss and damage expenses by the number of tons originated by commodity. Round to the thousandths place.

5. For Commodity 49 Hazmat, only report data in the loss and damage column.

6. Explain the methodology by which non-U.S. operations, if any, are excluded.

Annual Report of Tare Weight Data Instructions

1. For each four-digit AAR Car Type Code, report the total tare weight in tons and pounds, and the number of cars.

2. Report detailed data for freight car types and intermodal equipment codes: A, B, C, D, E, F, G, H, J, K, L, M, P, Q, R, S, T, U, V, and Z.

[FR Doc. 2022-16598 Filed 8-3-22; 8:45 am]

BILLING CODE 4915-01-C